DEPARTMENT OF ENERGY

Federal Energy Regulatory Commission

[Docket No. AD04-6-000]

Notice of Availability of Staff's Responses to Comments on the Consequence Assessment Methods for Incidents Involving Releases From Liquefied Natural Gas Carriers

June 18, 2004.

The Federal Energy Regulatory Commission's staff researched and reviewed methodologies for modeling liquefied natural gas spills on water. The final report entitled Consequence Assessment Methods for Incidents Involving Releases from Liquefied Natural Gas Carriers was made available to the public on May 14, 2004, with comments due by May 28. The staff's responses to the comments are now available in PDF format from the Commission's Web site (http://www.ferc.gov/industries/gas/indus-act.asp).

Magalie R. Salas,
Secretary.

[FR Doc. E4-1428 Filed 6-25-04; 8:45 am]

BILLING CODE 6717-01-P